NATIONAL FOUNDATION OF THE ARTS AND THE HUMANITIES

Institute of Museum and Library Services

41st Meeting of the National Museum and Library Services Board

AGENCY: Institute of Museum and Library Services (IMLS), National Foundation of the Arts and the Humanities (NFAH).

ACTION: Notice of meeting.

SUMMARY: Pursuant to the Federal Advisory Committee Act, notice is hereby given that the National Museum and Library Services Board will meet to advise the Director of the Institute of Museum and Library Services (IMLS) with respect to duties, powers, and authority of IMLS relating to museum, library, and information services, as well as coordination of activities for the improvement of these services.

DATES: The meeting will be held on June 11, 2020, from 11:00 a.m. Eastern Time until adjourned.

ADDRESSES: The meeting will convene virtually. In order to enhance openness and public participation, virtual meeting and audio conference technology will be used during the meeting. Instructions will be sent to all public registrants.

FOR FURTHER INFORMATION CONTACT: Katherine Maas, Project Specialist and Alternate Designated Federal Officer, Institute of Museum and Library Services, Suite 4000, 955 L'Enfant Plaza North SW, Washington, DC 20024; (202) 653-4798; kmaas@imls.gov (mailto:kmaas@imls.gov).

SUPPLEMENTARY INFORMATION: The National Museum and Library Services Board is meeting pursuant to the National Museum and Library Service Act, 20 U.S.C. 9105a, and the Federal Advisory Committee Act (FACA), as amended, 5 U.S.C. App.

The 41st Meeting of the National Museum and Library Services Board will be held on June 11, 2020. A plenary session (open to the public) will convene online at 11:00 a.m. Eastern Time, followed by an Executive Session (closed to the public).

The agenda for the plenary session of the National Museum and Library Services Board will be as follows:

I. Call to Order and Welcome

II. Approval of Minutes

Board Program: Museums, Libraries, and COVID-19 Response

III. Introduction

IV. Legislative Framework

V. Office of Library Services Report

VI. Office of Museum Services Report

VII. REALM (REopening Archives, Libraries and Museums) Project Report

Operational Reports

VIII. Financial and Operations Report

IX. Communications Report

X. Office of the Chief Information Officer Report

XI. Board Discussion

As identified above, portions of the meeting of the National Museum and Library Services Board will be closed to the public pursuant to subsections (c)(4), (c)(6) and (c)(9) of section 552b of Title 5, United States Code, as amended. The closed session will consider information that may disclose: Trade secrets and commercial or financial information obtained from a person and privileged or confidential; and information the premature disclosure of which would be likely to significantly frustrate implementation of a proposed agency action.

If you wish to attend the virtual public session of the meeting, please inform IMLS as soon as possible, but no later than close of business on June 8, 2020, by contacting Katherine Maas at kmaas@imls.gov (mailto:kmaas@imls.gov). Virtual meeting and audio instructions will be sent to all public registrants. Please provide notice of any special needs or accommodations by May 28, 2020.

Dated: May 8, 2020.
Kim Miller,
Senior Grants Management Specialist, Institute of Museum and Library Services.

[FR Doc. 2020-10302 Filed 5-13-20; 8:45 am]

BILLING CODE 7036-01-P